DEPARTMENT OF LABOR

Employment and Training Administration

[TA-W-38,424 and NAFTA-4441]

Georgia Pacific Chip and Saw Plant, Baileyville, ME; Notice of Revised Determination on Reconsideration

By letter dated April 12, 2001, the Paper, Allied-Industrial, Chemical and Energy Workers International Union, Local 1-1367 (PACE), requested administrative reconsideration of the Department's denial of TAA and NAFTA-TAA for workers of the subject firm. Workers at Georgia Pacific Corporation, Chip-and-Saw, Baileyville, Maine, are engaged in the production of softwood dimensional lumber.

On March 14, 2001 and March 13, 2001, the Department of Labor issued Negative Determination Regarding Eligibility to apply for Trade Adjustment Assistance (TAA) and NAFTA-Transitional Adjustment Assistance (NAFTA-TAA), respectively, applicable to workers and former workers of the subject firm. The TAA and NAFTA-TAA decisions were published in the Federal Register on April 16, 2001 (66 FR 19520) and (66 FR 169522), respectively.

The TAA petition was denied because the “contributed importantly” group eligibility requirement of section 222(3) of the Trade Act of 1974, as amended, was not met. The “contributed importantly” test is generally demonstrated through a survey of the workers' firm's customers. The investigation revealed that none of the subject firm customers reported increased import purchases of softwood lumber (dimensional).

The NAFTA-TAA petition for the same worker group was denied because criteria (3) and (4) of the group eligibility requirements in paragraph (a)(1) of section 250 of the Trade Act, as amended, were not met. There was no shift of production from the subject firm to Canada or Mexico, nor did the company import softwood lumber from Canada or Mexico. The Department conducted a survey of major customers of the subject firm regarding purchases of softwood lumber (dimensional). The survey revealed that the customers did not significantly increase import purchases of softwood lumber from Canada or Mexico.

In the request for reconsideration, PACE asserts that there was a contradiction in the TAA and NAFTA-TAA decisions, inasmuch as in the TAA petition denial, the finding that import purchases by the subject company of softwood dimensional lumber declined during the relevant time periods, while the NAFTA-TAA petition denial found the subject firm does not import softwood lumber.

The Department concurs with the PACE on this issue. On reconsideration, the Department conducted further import analysis. The analysis revealed that Georgia Pacific maintained a reliance on imports of softwood lumber from Canada and other sources, while reducing production and employment at the Chip and Saw Plant located in Baileyville, Maine.

From 1999 to 2000, U.S. imports of softwood lumber from Canada increased absolutely and relative to domestic production and consumption.

Conclusion

After careful review of the application and investigative findings on reconsideration, I conclude that increased imports, including those from Canada of articles like or directly competitive with softwood lumber, contributed importantly to the decline in sales or production and to the total or partial separation of workers of the subject firm. In accordance with the provisions of the Trade Act, I make the following certification:

All workers of Georgia Pacific, Chip and Saw Plant, Baileyville, Maine, engaged in employment related to the production of softwood lumber, who became totally or partially separated from employment on or after December 2, 1999, through two years from issuance of the revised determination, are eligible to apply for adjustment assistance under section 223 of the Trade Act of 1974; and

All workers of Georgia Pacific, Chip and Saw Plant, Baileyville, Maine, engaged in employment related to the production of softwood lumber, who became totally or partially separated from employment on or after January 2, 2000, through two years from the issuance of this revised determination, are eligible to apply for NAFTA-TAA under section 250 of the Trade Act of 1974.

Signed in Washington, DC, this 9th day of January 2002.
Edward A. Tomchick,
Director, Division of Trade Adjustment Assistance.

[FR Doc. 02-2344 Filed 1-30-02; 8:45 am]

BILLING CODE 4510-30-M